POSTAL SERVICE

Temporary Emergency Committee of the Board of Governors; Sunshine Act Meeting

FEDERAL REGISTER CITATION OF PREVIOUS ANNOUNCEMENT: 84 FR 12298.

PREVIOUSLY ANNOUNCED TIME AND DATE OF THE MEETING: Tuesday, April 9, 2019, at 8:30 a.m.

PLACE: Washington, DC.

STATUS: Closed.

CHANGES IN THE MEETING: The meeting is extended one additional day, beginning at 8:30 a.m. on Wednesday, April 10, 2019.

CONTACT PERSON FOR MORE INFORMATION: Michael J. Elston, Acting Secretary of the Board, U.S. Postal Service, 475 L'Enfant Plaza SW, Washington, DC 20260-1000. Telephone: (202) 268-4800.

Michael J. Elston,
Acting Secretary.

[FR Doc. 2019-07544 Filed 4-11-19; 4:15 pm]

BILLING CODE 7710-12-P